DEPARTMENT OF VETERANS AFFAIRS

[OMB Control No. 2900-0793]

Agency Information Collection Activity: VA Health Professional Scholarship and Visual Impairment and Orientation and Mobility Professional Scholarship Programs (HPSP and VIOMPSP)

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before August 9, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0793” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: VA Health Professional Scholarship and Visual Impairment and Orientation and Mobility Professional Scholarship Programs (HPSP and VIOMPSP).

1. Academic Verification, VA Form 10-0491.

2. Addendum to Application, VA Form 10-0491a.

3. Annual VA Employment Deferment Verification, VA Form 10-0491c.

4. Education Program Completion Notice—Service Obligation Placement, VA Form 10-0491d.

5. Evaluation Recommendation Form, VA Form 10-0491e.

6. HPSP Agreement, VA Form 10-0491f.

7. HPSP/VIOMPSP Application, VA Form 10-0491g.

8. Notice of Approaching Graduation, VA Form 10-0491h.

9. Notice of Change and/or Annual Academic Status Report, VA Form 10-0491i.

10. Request for Deferment for Advanced Education, VA Form 10-0491j.

11. VA Scholarship Offer Response, VA Form 10-0491k.

12. VIOMPSP Agreement, VA Form 10-0491l.

13. Mobility Agreement, VA Form 10-0491m.

14. HPSP VHVMAESP Agreement, VA Form 10-0491n.

OMB Control Number: 2900-0793.

Type of Review: Revision of a currently approved collection.

Abstract: This is a revision of a currently approved collection, due to legislation that necessitates adding two forms and amending existing forms. The collection of information is essential to implement the Department of Veterans Affairs (VA) Visual Impairment and Orientation and Mobility Professionals Scholarship Program (VIOMPSP) and the VA Health Professional Scholarship Program (HPSP) which were authorized under Public Law 111-163 on May 5, 2010 and extended through December 31, 2033 by Section 301 of Public Law 115-182, The VA Mission Act of 2018. The passage of this legislation allows VA to provide services to the public by awarding scholarships to non-VA employees who will be required to become VA employees in the professions for which they were educated under these programs. Section 304 of The Mission Act of 2018 authorized the creation of the Veterans Healing Veterans Medical Access and Education Scholarship Program (VHVMAESP). These programs will help address VA health care workforce needs.

Affected Public: Individuals and households.

Estimated Annual Burden
VA Forms | Number of respondents | x Number of responses | Equals | x Number of minutes | Equals (minutes) | ÷ by 60 = | Number of hours
Visual Impairment and Orientation and Mobility Professionals Scholarship Program (VIOMPSP)
Applicants
10-0491g—Application | 100 | 1 | 100 | 60 | 6,000 |  | 100
10-0491—Academic Verification | 100 | 1 | 100 | 60 | 6,000 |  | 100
10-0491e—Evaluation & Recommendation | 100 | 2 | 200 | 50 | 5,000 |  | 83.3
10-0491a—Addendum to Application | * 30 | 1 | 30 | 10 | 300 |  | 5
Total |  |  |  |  |  |  | 288.3
Applicants Selected To Receive a Scholarship
10-0491l—Agreement for the VIOMPSP | 10 | 1 | 10 | 15 | 150 |  | 2.5
10-0491m—VA Scholarship Mobility Agreement | 10 | 1 | 10 | 10 | 100 |  | 1.7
10-0491k—VA Scholarship Offer Response | 10 | 1 | 10 | 10 | 100 |  | 1.7
10-0491i—Notice of Change and/or Annual Academic Status Report | 10 | 1 | 10 | 20 | 200 |  | 3.3
10-0491h—Notice of Approaching Graduation | 10 | 1 | 10 | 10 | 100 |  | 1.7
10-0491d—Education Program Completion Notice/Service Obligation Placement | 10 | 1 | 10 | 20 | 200 |  | 3.3
10-0491j—Request for Deferment for Advanced Education | 2 | 1 | 2 | 10 | 20 |  | .3
10-0491c—Annual VA Employment/Deferment Verification | 10 | 1 | 10 | 10 | 100 |  | 1.7
Total |  |  |  |  |  |  | 16.2
Grand Total for VIOMPSP |  |  |  |  |  |  | 304.5
Health Professional Scholarship Program (HPSP)
Applicants
10-0491g—Application | 1,700 | 1 | 1,700 | 60 | 102,000 |  | 1,700
10-0491—Academic Verification | 1,700 | 1 | 1,700 | 60 | 102,000 |  | 1,700
10-0491e—Evaluation & Recommendation | 1,700 | 2 | 3,400 | 50 | 170,000 |  | 2,833.3
10-0491a—Addendum to Application | * 510 | 1 | 510 | 10 | 5,100 |  | 85
Total |  |  |  |  |  |  | 6,318.3
Applicants Selected To Receive a Scholarship
10-0491f—Agreement for the HPSP | 160 | 1 | 160 | 15 | 2,400 |  | 40
10-0491n—Agreement for the VHVMAESP | 20 | 1 | 20 | 15 | 300 |  | 5
10-0491m—Mobility Agreement | 160 | 1 | 160 | 10 | 1,600 |  | 26.7
10-0491k—VA Scholarship Offer Response | 160 | 1 | 160 | 10 | 1,600 |  | 26.7
10-0491i—Notice of Change and/or Annual Academic Status Report | 480 | 1 | 480 | 20 | 9,600 |  | 160
10-0491h—Notice of Approaching Graduation | 160 | 1 | 160 | 10 | 1,600 |  | 26.7
10-0491d—Education Program Completion Notice/Service Obligation Placement | 160 | 1 | 160 | 20 | 3,200 |  | 53.3
10-0491j—Request for Deferment for Advanced Education | * 48 | 1 | 48 | 10 | 480 |  | 8
10-0491c—Annual VA Employment/Deferment Verification | 160 | 1 | 160 | 10 | 1,600 |  | 26.7
Total |  |  |  |  |  |  | 373.1
Grand Total for HPSP |  |  |  |  |  |  | 6,691.4
Grand Total for Both VIOMPSP and HPSP (6,691.4 + 304.5 = 6,995.9) |  |  |  |  |  |  | ~ 6,996
* (30%).

Frequency of Response: Annually.

Estimated Number of Respondents: 1,800.

By direction of the Secretary.
Danny S. Green,
Interim VA Clearance Officer, Office of Quality, Performance and Risk (OQPR), Department of Veterans Affairs.

[FR Doc. 2019-12131 Filed 6-7-19; 8:45 am]

BILLING CODE 8320-01-P